ENVIRONMENTAL PROTECTION AGENCY

[EPA-HQ-OPPT-2013-0721; FRL-11118-01-OMS]

Agency Information Collection Activities; Submission to the Office of Management and Budget for Review and Approval; Comment Request; Chemical Data Reporting Under the Toxic Substances Control Act (TSCA) (Renewal)

AGENCY: Environmental Protection Agency (EPA).

ACTION: Notice.

SUMMARY: The Environmental Protection Agency (EPA) has submitted an information collection request (ICR), Chemical Data Reporting under the Toxic Substances Control Act (TSCA) (EPA ICR Number 1884.15; OMB Control Number 2070-0162), to the Office of Management and Budget (OMB) for review and approval in accordance with the Paperwork Reduction Act. This is a proposed extension of the ICR, which is currently approved through June 30, 2023. Public comments were previously requested via the Federal Register on September 21, 2021, during a 60-day comment period. This notice allows for an additional 30 days for public comments.

DATES: Additional comments may be submitted on or before July 31, 2023.

ADDRESSES: Submit your comments, referencing Docket ID Number EPA-HQ-OPPT-2013-0721 to EPA online using www.regulations.gov (our preferred method) or by mail to: EPA Docket Center, Environmental Protection Agency, Mail Code 2821T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Katherine Sleasman, Regulatory Support Branch (7602M), Office of Chemical Safety and Pollution Prevention, Environmental Protection Agency, 1200 Pennsylvania Ave. NW, Washington, DC 20460; telephone number: (202) 566-1204; email address: sleasman.katherine@epa.gov.

SUPPLEMENTARY INFORMATION: This is a proposed extension of the ICR which is currently approved through June 30, 2023. An agency may not conduct or sponsor and a person is not required to respond to a collection of information unless it displays a currently valid OMB control number.

Public comments were previously requested via the Federal Register on September 21, 2021 during a 60-day comment period (86 FR 52547). This notice allows for an additional 30 days for public comments. Supporting documents which explain in detail the information that the EPA will be collecting are available in the docket for this ICR. The docket can be viewed online at www.regulations.gov or in person at the EPA Docket Center, WJC West, Room 3334, 1301 Constitution Ave. NW, Washington, DC. The telephone number for the Docket Center is 202-566-1744. For additional information about EPA's public docket, visit https://www.epa.gov/dockets.

Abstract: This information collection request addresses the paperwork requirements contained in the TSCA Chemical Data Reporting (CDR) rule. Under TSCA section 8(a), EPA is authorized to collect certain information on chemical substances manufactured (including imported) or processed in the United States. The CDR collection provides chemical manufacture, processing, and use information that helps EPA identify what chemicals the public may be exposed to as consumers or in commercial and industrial settings. The data also help EPA assess routes of potential exposure to those chemicals. Beginning in 1986, EPA has used the CDR rule eight times to collect basic manufacturing information for selected chemical substances on the TSCA Inventory. More recent collections, beginning in 2006, included additional information relating to the manufacture, processing, and use of those chemical substances. The reporting requirements have been modified through rulemaking, with the most recent major changes occurring in 2020. The 2020 revisions included a phase-in approach for some of its provisions. All provisions will be fully implemented for the 2024 CDR reporting cycle. The changes are described on EPA's CDR web page, at: https://www.epa.gov/chemical-datareporting/summary-reportingrequirement-changes-due-cdr-revisionsand-small.

The CDR collection is on a four-year reporting cycle and contains detailed manufacturing, processing, and use information drawn from the principal reporting year; the rule also contains basic information on production volume, by year, for the three years prior to the principal reporting. Individual sites manufacturing (including importing) chemical substances will submit the required information. The information will be stored electronically for reference by EPA staff and others. Within the constraints of confidentiality claims, the information will be made public through the Agency's website: https://www.epa.gov/chemical-datareporting. Further discussion on how the information is used, stored, and collected is included in this document.

Form Numbers: Form U (Form #: 9600-010), Form U Primary Manufacturer Import (Form #: 9600-011), Form U Primary Co-Manufacturer Contracting (Form #: 9600-012), Form U Primary Co-Manufacturer Producing (Form #: 9600-013), Form U Secondary or Tertiary (Form #: 9600-014), and Form U Secondary Notifying Tertiary (Form #9600-015).

Respondents/affected Entities: Potentially affected entities may include but are not limited to the following: 325 Chemical Manufacturing and 324 Petroleum and Coal Product Manufacturing.

Respondent's obligation to respond: Mandatory, TSCA section 8(a) and 40 CFR part 711.

Estimated number of respondents: 5,460 (total).

Frequency of response: Every four years.

Total estimated burden: 729,465 hours (per year). Burden is defined at 5 CFR 1320.3(b).

Total estimated cost: $78,616,166 (per year), which includes $0 annualized capital or operation & maintenance costs.

Changes in the estimates: There is an increase of 10,194 hours in the total estimated burden compared with that currently approved by OMB. This increase reflects a combination of reporting requirement changes including changes to the information reported (+35,611 hours) and changes to the number of reporters (−25,417 hours) due to byproducts exemptions and a new small manufacturer definition, which were included in two ICR addendums approved by OMB in 2020 (one associated with the 2020 CDR Revisions Rule and the other with the 2020 8(a) SMD Update Rule).

Courtney Kerwin,
Director, Regulatory Support Division.

[FR Doc. 2023-13948 Filed 6-29-23; 8:45 am]

BILLING CODE 6560-50-P